DEPARTMENT OF LABOR

Occupational Safety and Health Administration

[Docket No. OSHA-2022-0002]

National Advisory Committee on Occupational Safety and Health (NACOSH): Notice of Meeting

AGENCY: Occupational Safety and Health Administration (OSHA), Labor.

ACTION: Notice of NACOSH meeting.

SUMMARY: The National Advisory Committee on Occupational Safety and Health (NACOSH) will meet June 30, 2022, by WebEx. In conjunction with the committee meeting, the NACOSH Heat Injury and Illness Prevention Work Group will meet separately on June 30, 2022.

DATES:

NACOSH Work Group meeting: The NACOSH Heat Injury and Illness Prevention Work Group (Heat Work Group) will meet from 1:00 p.m. to 3:00 p.m., ET, Thursday, June 30, 2022.

NACOSH meeting: NACOSH will meet from 3:30 p.m. to 5:30 p.m., ET, Thursday, June 30, 2022.

ADDRESSES:

Submission of comments and requests to speak: Submit comments and requests to speak at the NACOSH meeting by June 23, 2022, identified by the docket number for this Federal Register notice (Docket No. OSHA-2022-0002), using the following method:

Electronically: Comments and request to speak, including attachments, must be submitted electronically at www.regulations.gov, the Federal eRulemaking Portal. Follow the online instructions for submitting comments.

Requests for special accommodations: Submit requests for special accommodations for this NACOSH meeting by June 23, 2022, to Ms. Carla Marcellus, Directorate of Standards and Guidance, OSHA, U.S. Department of Labor; telephone: (202) 693-1865; email: marcellus.carla@dol.gov.

Instructions: All submissions must include the agency name and the OSHA docket number for this Federal Register notice (Docket No. OSHA-2022-0002). OSHA will place comments and requests to speak, including personal information, in the public docket, which may be available online. Therefore, OSHA cautions interested parties about submitting personal information such as Social Security numbers and birthdates.

Docket: To read or download documents in the public docket for this NACOSH meeting, go to www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

Participation in the NACOSH Heat Work Group meeting: Members of the public may attend the NACOSH Heat Work Group meeting. However, any participation by the public will be in listen-only mode. OSHA is not receiving public comments or requests to speak at the Heat Work Group meeting.

FOR FURTHER INFORMATION CONTACT:

For press inquiries: Mr. Frank Meilinger, Director, OSHA Office of Communications, U.S. Department of Labor; telephone: (202) 693-1999; email: meilinger.francis2@dol.gov.

For general information about NACOSH: Ms. Lisa Long, Acting Deputy Director, Directorate of Standards and Guidance, OSHA, U.S. Department of Labor; telephone: (202) 693-2409; email: long.lisa@dol.gov.

Telecommunication requirements: For additional information about the telecommunication requirements for the meeting, please contact Ms. Carla Marcellus, Directorate of Standards and Guidance, OSHA, U.S. Department of Labor; telephone: (202) 693-1865; email: marcellus.carla@dol.gov.

For copies of this Federal Register Notice: Electronic copies of this Federal Register notice are available at www.regulations.gov. This notice, as well as news releases and other relevant information, are also available at OSHA's web page at www.osha.gov.

SUPPLEMENTARY INFORMATION:

I. Background

NACOSH was established by Section 7(a) of the Occupational Safety and Health Act of 1970 (OSH Act) (29 U.S.C. 651, 656) to advise, consult with, and make recommendations to the Secretary of Labor and the Secretary of Health and Human Services on matters relating to the administration of the OSH Act. NACOSH is a continuing advisory committee of indefinite duration.

NACOSH operates in accordance with the Federal Advisory Committee Act (FACA) (5 U.S.C. App.2), its implementing regulations (41 CFR part 102-3), and OSHA's regulations on NACOSH (29 CFR 1912.5 and 29 CFR part 1912a).

The establishment of subcommittees and subgroups, such as the NACOSH Heat Work Group, is contemplated by both the FACA's implementing regulations and OSHA's regulations on NACOSH (see, e.g., 41 CFR 102-3.135; 29 CFR 1912a.13). The Heat Work Group will operate in accordance with the FACA and these regulations.

II. Meeting Information

NACOSH Heat Work Group Meeting: Attendee WebEx link: https://usdolee.webex.com/usdolee/onstage/g.php?MTID=e2fd6f3749961760386cf6339d32ce3d7, Access code: 2763 260 4490, Webinar password: Welcome!24.

NACOSH Meeting: Attendee WebEx link: https://usdolee.webex.com/usdolee/onstage/g.php?MTID=e9379ff2f534d96912c5aac2a04cc774e, Access code: 2762 455 5864, Webinar password: Welcome!24.

The tentative agenda will include an agency update from OSHA and a report from the Heat Work Group.

Authority and Signature

James S. Frederick, Deputy Assistant Secretary of Labor for Occupational Safety and Health, authorized the preparation of this notice under the authority granted by 29 U.S.C. 655(b)(1) and 656(b), 5 U.S.C. App. 2, 29 CFR parts 1912 and 1912a, and Secretary of Labor's Order No. 8-2020 (85 FR 58393).

Signed at Washington, DC, on May 27, 2022.
James S. Frederick,
Deputy Assistant Secretary for Occupational Safety and Health.

[FR Doc. 2022-12070 Filed 6-3-22; 8:45 am]

BILLING CODE 4510-26-P